DEPARTMENT OF TRANSPORTATION

Federal Highway Administration

Environmental Impact Statement; Saint Louis County, MN

AGENCY: Federal Highway Administration (FHWA), DOT.

ACTION: Notice of Intent.

SUMMARY: The FHWA is issuing this notice to advise the public that an environmental impact statement (EIS) will be prepared for the development of a more direct and efficient roadway connection between the Cities of Hoyt Lakes and Babbitt, Saint Louis County, Minnesota and to improve connectivity across the broader East Iron Range region. Given the project area boundaries, the alternatives studied will vary in length from 18 miles to 37 miles.

FOR FURTHER INFORMATION CONTACT: Cheryl Martin, Federal Highway Administration, Galtier Plaza, 380 Jackson Street, Suite 500, St. Paul, Minnesota 55101, Telephone (651) 291-6120; or Marcus Hall, Public Works Director/Highway Engineer, Saint Louis County Public Works Department, 4787 Midway Road, Duluth, Minnesota 55811, Telephone (218) 625-3830.

SUPPLEMENTARY INFORMATION: The FHWA, in cooperation with Saint Louis County Public Works Department, will prepare an EIS on a proposal to connect the Cities of Hoyt Lakes and Babbitt, Saint Louis County, Minnesota, a distance of approximately 18 to 37 miles. The proposed action is being considered to develop a more direct and efficient roadway connection between the two Cities and to improve connectivity across the broader East Iron Range region. The EIS will evaluate the social, economic, transportation and environmental impacts of alternatives, including: (1) No-Build, (2) Reconstruction on existing alignment, (3) Construction on partial new alignment, and (4) Construction on new alignment.

The “Hoyt Lakes to Babbitt Scoping Document/Draft Scoping Decision Document” will be published early in 2008. A press release will be published to inform the public of the document's availability. Copies of the scoping document will be distributed to agencies, interested persons and libraries for review to aid in identifying issues and analyses to be contained in the EIS. A thirty-day comment period for review of the document will be provided to afford an opportunity for all interested persons, agencies and groups to comment on the proposed action. A public scoping meeting will also be held during the comment period. Public notice will be given for the time and place of the meeting. After the scoping comment period has closed, the “Hoyt Lakes to Babbitt Scoping Decision Document” will be published in the spring of 2008. A Draft EIS will be prepared based on the outcome of and closely following the scoping process. The Draft EIS will be available for agency and public review and comment. In addition, a public hearing will be held following completion of the Draft EIS. Public Notice will be given for the time and place of the public hearing on the Draft EIS. Coordination has been initiated and will continue with appropriate Federal, State and local agencies and private organizations and citizens who have previously expressed or are known to have an interest in the proposed action. “Participating agencies” have been identified and a meeting will be held in February or March, 2008 to discuss the project and receive input on the “purpose and need” for the project and range of alternatives to be studied in the Draft EIS. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: December 28, 2007.
Cheryl B. Martin,
Environmental Engineer, Federal Highway Administration, St. Paul, Minnesota.

[FR Doc. 07-6303 Filed 1-4-08; 8:45 am]

BILLING CODE 4910-22-M